DEPARTMENT OF TRANSPORTATION

Federal Highway Administration

Notice of Final Federal Agency Actions of Proposed Highway Improvement in California; Statute of Limitations on Claims

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans. The actions relate to the proposed widening project on State Route 138 (SR-138) between 5th Street East and 10th Street East from two lanes to three lanes in each direction, a distance of approximately 0.5 mile. Additionally, the project proposes to widen Sierra Highway from two lanes to three lanes in each direction between Avenue R and a point 500 feet south of Avenue Q, a distance of approximately 0.9 mil, in the City of Palmdale within the County of Los Angeles, State of California. Those actions grant licenses, permits, and approvals for the project.

DATES: By this notice, the FHWA, on behalf of Caltrans, is advising the public of final agency actions subject to 23 U.S.C. 139(l)(1). A claim seeking judicial review of the Federal Agency Actions on the highway project will be barred unless the claim is filed on or before June 18, 2018. If the Federal law that authorizes judicial review of a claim provides a time period of less than 150 days for filing such claim, then that shorter time period still applies.

FOR FURTHER INFORMATION CONTACT: For Caltrans: Lourdes Ortega, Branch Chief, Environmental Planning Division, California Department of Transportation—District 7, 100 South Main Street, Los Angeles, California, 8 a.m. to 5 p.m., 213-897-9572, lourdes.ortega@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans, has taken final agency actions subject to 23 U.S.C. 139(l)(1) by issuing licenses, permits, and approvals for the following highway project in the State of California: Caltrans proposes to widen State Route (SR) 138 (Palmdale Boulevard) between 5th Street East and 10th Street East in downtown Palmdale from two lanes to three lanes in each direction. Additionally, Caltrans proposes to widen Sierra Highway from two lanes to three lanes in each direction between Avenue R and a point 500 feet south of Avenue Q, a distance of approximately 0.9 mile. Double left-turn lanes and a right-turn lane are proposed in the northbound and southbound directions of Sierra Highway and SR-138 (Palmdale Boulevard) intersection. The existing on-street parking along northbound Sierra Highway between SR-138 and Avenue Q6 would be maintained. Additionally, the project proposes to extend the existing Class I bicycle path, which runs along the west side of Sierra Highway, southerly to provide connectivity to Avenue R. The actions by the Federal agencies, and the laws under which such actions were taken, are described in the Final Initial Study (IS) with Mitigated Negative Declaration (MND)/Environmental Assessment (EA) with Finding of No Significant Impact (FONSI), approved on December 29, 2017, and in other documents in the FHWA project records. The Final IS/EA with MND/FONSI, and other project records are available by contacting Caltrans at the addresses provided above. The Caltrans Final IS/EA with MND/FONSI can be viewed and downloaded from the project website at: http://www.dot.ca.gov/d7/env-docs/docs/, or viewed at public libraries in the project area. This notice applies to all Federal agency decisions as of the issuance date of this notice and all laws under which such actions were taken, including but not limited to:

(1) Council on Environmental Quality regulations;

(2) National Environmental Policy Act (NEPA);

(3) Moving Ahead for Progress in the 21st Century Act (MAP-21);

(4) Department of Transportation Act of 1966;

(5) Federal Aid Highway Act of 1970;

(6) Clean Air Act Amendments of 1990;

(7) Noise Control Act of 1970;

(8) 23 CFR part 772 FHWA Noise Standards, Policies and Procedures;

(9) Department of Transportation Act of 1966, Section 4(f);

(10) Clean Water Act of 1977 and 1987;

(11) Endangered Species Act of 1973;

(12) Migratory Bird Treaty Act;

(13) National Historic Preservation Act of 1966, as amended;

(14) Historic Sites Act of 1935; and,

(15) Executive Order 13112, Invasive Species.

(16) Title VI of the Civil Rights Act of 1964.

(Catalog of Federal Domestic Assistance Program Number 20.205, Highway Planning and Construction. The regulations implementing Executive Order 12372 regarding intergovernmental consultation on Federal Programs and activities apply to this program.)

Authority: 23 U.S.C. 139(l)(1)

Omar Elkassed,
Senior Transportation Engineer, Federal Highway Administration, California Division.

[FR Doc. 2018-00775 Filed 1-17-18; 8:45 am]

BILLING CODE 4910-RY-P